DEPARTMENT OF TRANSPORTATION

Federal Railroad Administration

[Docket No. FRA-2010-005-N-5]

Resolicitation of Applications for the Railroad Safety Technology Program Grant Program (RS-TEC-10-001)

AGENCY: Federal Railroad Administration (FRA), Department of Transportation (DOT).

ACTION: Notice of Funds Availability, Resolicitation of Applications (RS-TEC-10-001).

SUMMARY: Due to a significant number of technical errors in applicant grant proposal submissions for the Railroad Safety Technology Grant Program (Funding Opportunity RS-TEC-10-001), the Federal Railroad Administration (FRA) has elected to reopen the application period.

Applicants who previously submitted a proposal for funding under this program and those who do not want to make changes to their submission do not need to do anything. Their original application will be reviewed as is.

Applicants wanting to make any changes to their application must reapply and submit a new, complete application package with all required documentation. The new application package will be reviewed and the previous application from the July 1, 2010, deadline will be ignored. It is therefore essential that applicants submit all required documentation as if they were a new applicant. Those seeking to modify their application must resubmit their proposals through Grants.gov (http://www.grants.gov/) before 23:59 (11:59 p.m.) Eastern Daylight Time September 3, 2010. Applications after this date and time will not be considered. Applications submitted directly to GrantSolutions or via e-mail, fax, or any other method other than Grants.gov, will not be considered.

The Railroad Safety Technology Program (RSTP) is a newly authorized program under the Rail Safety Improvement Act of 2008 (RSIA) (Pub. L. 110-432; October 16, 2008). The program authorizes DOT to provide grants to passenger and freight rail carriers, railroad suppliers, and State and local governments for projects that have a public benefit of improved railroad safety and efficiency. The program makes available $50 million in Federal funds. This grant program has a mandatory maximum 80 percent Federal, and minimum 20 percent grantee, cost share (cash or in-kind) requirement. Applications that do not clearly indicate at least a 20 percent non-Federal cost share, and do not adequately identify how the non-Federal cost share will be provided, will be rejected as nonresponsive.

DATES: FRA will begin accepting grant applications 10 days after publication of this Notice of Funding Availability in the Federal Register. Applications may be submitted until September 3, 2010. Reviews will be conducted immediately following the solicitation close date. Selection announcements will be made approximately 60 days after the closing date for applications.

ADDRESSES: All grant applications must be submitted through Grants.gov (http://www.grants.gov). The Grants.gov Web site allows organizations to find and electronically apply for competitive grant opportunities from all Federal grant-making agencies. Any entity wishing to submit an application pursuant to this notice should immediately initiate the process of registering with Grants.gov. FRA strongly recommends that applicants complete and submit their applications with sufficient lead time to account for any difficulties they may have in the use of Grants.gov. FRA does not recommend waiting until the closing date to submit applications. Instructions for the use of Grants.gov by applicants can be found on the Grants.gov Web site (http://www.grants.gov/). The help center for the use of Grants.gov can be reached at (800) 518-4726. The help center is closed on Federal holidays. Callers to the help center should have the Funding Opportunity Number (RS-TEC-10-001), the name of the agency you are applying to (Federal Railroad Administration), and the specific area of concern. No applications will be accepted after the closing date and time.

FOR FURTHER INFORMATION CONTACT: Those interested in responding to this solicitation are strongly encouraged to first call Dr. Mark Hartong, FRA, Senior Electronics Engineer (phone: (202) 493-1332; e-mail: Mark.Hartong@dot.gov); or Mr. David Blackmore, FRA, Program Manager, Advanced Technologies (phone: (312) 835-3903, e-mail: David.Blackmore@dot.gov) to discuss the prospective idea, its potential responsiveness to the solicitation, and potential for FRA interest. Taking this action could forestall costly efforts by interested parties whose proposed work may not be of interest to FRA under this grant. Nontechnical inquiries should be directed to the Grants Officer, Ms. Jennifer Capps (phone: (202) 493-0112, e-mail: Jennifer.Capps@dot.gov).

SUPPLEMENTARY INFORMATION: Authority and Funding: RSTP, authorized under Section 105 of RSIA (Division A, Pub. L. 110-432) (49 U.S.C. 20158), authorizes the appropriation of $50 million annually for fiscal years (FY) 2009 through 2013. The Transportation, Housing and Urban Development, and Related Agencies Appropriations Act of 2010 provided $50 million for this purpose.

Eligible Organizations: Title 49 U.S.C. 20158 provides that “Grants shall be made under this section to eligible passenger and freight railroad carriers, railroad suppliers, and State and local governments for projects * * * that have a public benefit of improved safety and network efficiency.”

To be eligible for assistance, entities must have either received approval of the Technology Implementation Plans (TIP) and Positive Train Control Implementation Plans (PTCIP) required by 49 U.S.C. 20156(e)(2) and 20157, or demonstrate, to the satisfaction of FRA, that they are currently developing the required plans. Preference will be given in the following order:

1. Entities that have completed and received FRA approval of both their TIP and PTCIP.

2. Entities that have completed and received FRA approval of their PTCIP.

3. Entities that have submitted their PTCIP to FRA for approval.

4. Entities that have certified to FRA progress towards completion of their PTCIP and TIP.

5. All other entities.

Collaborative project submissions by freight and passenger carriers, suppliers, and State and local governments on eligible projects will be evaluated more favorably.

Eligible Projects: Grant awards will focus on using technologies or methods that are ready for deployment, or of sufficient technical maturity that they can be made ready for deployment within the 24 months after the grant award. FRA will give preference to collaborative projects by multiple railroads that have active railroad carrier and sponsoring public authority participation in the following order:

Priority 1: Projects that:

(a) Support the resolution of Northeast Corridor Positive Train Control (PTC) interoperability issues,

(b) Support the resolution of mixed freight and passenger PTC interoperability issues in the Los Angeles basin, or

(c) Facilitate sharing of PTC communications infrastructure and spectrum.

Priority 2: Projects that:

(a) Support high-speed passenger operations using general freight PTC technologies, or

(b) Optimize PTC deployment on the core 2015 PTC territory, or

(c) Support PTC deployment on non-2015 core PTC territory.

Priority 3: All other projects.

Selection Criteria: Applications will be evaluated and ranked based on both technical and cost/price factors.

Technical Factors (75% overall weighting):

1. Responsiveness to Solicitation Intent and Requirements (20%): Degree to which the proposal meets the conceptual intent and submission requirements of the solicitation.

2. Significance for Implementing Interoperable PTC Deployment and Fit with FRA Mission (30%): Degree to which successful implementation of the proposed idea would make interoperable PTC deployment more technically or economically practical (includes contribution to cost-effectiveness, reliability, safety, availability, or maintainability), and fit within FRA's primary mission of ensuring the safety of the Nation's approximately 700 railroads.

3. Technical Merit (20%): Degree to which proposed ideas exhibit a sound scientific and engineering basis; how well the proposed ideas could be practically applied in and would be compatible with the railroad environment; and perceived likelihood of technical and practical success.

4. Key Personnel and Supporting Organization (15%): Technical qualifications and demonstrated experience of key personnel proposed to lead and perform the technical efforts; qualifications of primary and supporting organizations to fully and successfully execute proposal plan within the proposed timeframe and budget.

5. Collaborative Efforts (15%): Degree to which the proposed effort is supported by multiple entities and the applicability and availability of results to the larger railroad industry.

Cost/Price Factor (25% overall weighting):

1. Affordability and degree to which proposed effort appears to be a good value for the amount of funding requested. This includes the reasonableness and realism of the proposed costs (60%).

2. The extent of proposed cost-sharing or cost-participation under the proposed effort (exclusive of the applicant's prior investment) (40%).

An offer must be found acceptable under all applicable evaluation factors to be considered eligible for award. Awards will be made to responsible applicants whose offers provide the best value to the Government in terms of technical excellence, cost or price, and performance risk, to include consistency and accord with the objectives of the solicitation and FRA's expressed areas of interest.

Requirements and Conditions for Grant Applications: Detailed application requirements and conditions may be found in the grant application guidance for this solicitation on Grants.gov. Before submitting their proposals, applicants must carefully read the grant guidance associated with this funding opportunity, ensure that their applications are submitted on or before the closing date provided herein, and ensure that they have complied with all of the requirements of the grant application guidance, including providing applicable certifications.

Information Collection: The Office of Management and Budget (OMB), under emergency clearance procedures, has approved the information collection associated with the PTC grant program for 6 months. The approval number for this collection of information is OMB No. 2130-0587, and the expiration date is September 30, 2010. FRA will be publishing a Notice in the Federal Register shortly in which the agency will be seeking regular OMB clearance for this collection of information. Such approvals are normally good for 3 years. FRA will publish a Notice for this second OMB approval once it is obtained.

Issued in Washington, DC, on July 20, 2010.
Robert C. Lauby,
Deputy Associate Administrator for Regulatory and Legislative Operations.

[FR Doc. 2010-18266 Filed 7-26-10; 8:45 am]

BILLING CODE 4910-06-P